DEPARTMENT OF HEALTH AND HUMAN SERVICES

Administration for Children and Families

Proposed Information Collection Activity; Comment Request

Proposed Projects:

Title: Mentoring Children of Prisoners Data Collection Process (MCPDCP).

OMB No.: 0970-0266.

Description: Information from the Mentoring Children of Prisoners Data Collection Process is necessary for the Federal agency's reporting and planning under the Government Performance and Results Act and to support evaluation requirements in the statute. The data will be used for accountability monitoring, management improvement, and research. Acquisition of the data ensures that the Federal agency knows if Grantees are meeting the targets (number of children being mentored) recorded in the grant application as required by the statute, and that mentoring activities are faithful to characteristics established by research as essential to success. The data also support grantees as they carry out ongoing responsibilities, maintain program service and manage information for internal uses.

Respondents: Recipients of grants from the HHS/ACF/Family and Youth Services Bureau to operate programs to provide mentoring for children of prisoners.

Annual Burden Estimates
Instrument | Number of respondents | Number of responses per respondent | Average burden hours per response | Total burden hours
MCP Data Collection Process (MCPDCP) | 150 | 4 | 12 | 7,200

Estimated Total Annual Burden Hours: 7,200.

In compliance with the requirements of Section 506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. E-mail address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: December 15, 2009.
Robert Sargis,
Reports Clearance Officer.

[FR Doc. E9-30092 Filed 12-17-09; 8:45 am]

BILLING CODE 4184-01-P